DEPARTMENT OF DEFENSE

Office of the Secretary

[Docket ID DoD-2021-OS-0122]

Submission for OMB Review; Comment Request

AGENCY: The Office of the Under Secretary of Defense for Personnel and Readiness (USD(P&R)), Department of Defense (DoD).

ACTION: 30-Day information collection notice.

SUMMARY: The Department of Defense has submitted to OMB for clearance the following proposal for collection of information under the provisions of the Paperwork Reduction Act.

DATES: Consideration will be given to all comments received by April 27, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION: Title; Associated Form; and OMB Number: Police Records Check; DD Form 369; OMB Control Number 0704-0007.

Type of Request: Extension.

Number of Respondents: 175,000.

Responses per Respondent: 1.

Annual Responses: 175,000.

Average Burden per Response: 27 minutes.

Annual Burden Hours: 78,750 hours.

Needs and Uses: Title 10, U.S. Code, Sections 504, 505 and 12102 establish minimal standards for enlistment into the Armed Forces. Among other items, these sections specifically prohibit the enlistment of those convicted of a felony. The Services have therefore developed standards which address the acceptability for Service persons with police records, adverse juvenile adjudications or court convictions. The standards are designed to screen out categories of persons who have probability of either becoming serious disciplinary problems or may not be able to adjust to the disciplinary demands of the Armed Forces. This information collection is needed to identify persons who may be undesirable for military service. The existence of a police record is one of the factors considered in establishing eligibility for enlistment or entry into highly sensitive career fields. Therefore, verification data from the individual and law enforcement agencies must be obtained before enlistment can occur. The form associated with this information collection is DD Form 369, “Police Record Check.” It is used by recruiters to inquire on applicants' backgrounds prior to acceptance to the Armed Forces, when, in the judgment of the recruiter, an applicant may be withholding information of prior offense history.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DoD Clearance Officer: Ms. Angela Duncan.

Requests for copies of the information collection proposal should be sent to Ms. Duncan at whs.mc-alex.esd.mbx.dd-dod-information-collections@mail.mil.

Dated: March 22, 2022.
Aaron T. Siegel,
Alternate OSD Federal Register Liaison Officer, Department of Defense.

[FR Doc. 2022-06470 Filed 3-25-22; 8:45 am]

BILLING CODE 5001-06-P